DEPARTMENT OF COMMERCE

National Oceanic and Atmospheric Administration

[RTID 0648-XF184]

Management Track Assessment for Acadian Redfish, White Hake, Georges Bank Winter Flounder, Cape Cod/Gulf of Maine Yellowtail Flounder, and Southern New England/Mid-Atlantic Yellowtail Flounder; Public Meeting

AGENCY: National Marine Fisheries Service (NMFS), National Oceanic and Atmospheric Administration (NOAA), Commerce.

ACTION: Notice of public meeting.

SUMMARY: NMFS will convene the Management Track Assessment Peer Review Meeting for the purpose of reviewing Acadian redfish, white hake, Georges Bank winter flounder, Cape Cod/Gulf of Maine yellowtail flounder, and Southern New England/Mid-Atlantic yellowtail flounder stocks. The Management Track Assessment Peer Review is a formal scientific peer-review process for evaluating and presenting stock assessment results to managers for fish stocks in the offshore U.S. waters of the northwest Atlantic. Assessments are prepared by the lead stock assessment scientist and reviewed by an independent panel of stock assessment experts. The public is invited to attend the presentations and discussions between the review panel and the scientists who have participated in the stock assessment process.

DATES: The public portion of the Management Track Assessment Peer Review Meeting will be held from September 15, 2025-September 18, 2025. The public portion of the meeting will conclude on September 18, 2025 at 12 p.m. Eastern Standard Time. Please see SUPPLEMENTARY INFORMATION for the daily meeting agenda.

ADDRESSES: The meeting will be held in Room 104 and Room 105 of the Candle House at the Marine Biological Laboratory, 127 Water St., Woods Hole, MA 02543 and virtually using this Google Meet link: https://meet.google.com/ucu-vwrf-veq.

FOR FURTHER INFORMATION CONTACT: Brian Hooper, 508-258-9580; brian.hooper@noaa.gov.

SUPPLEMENTARY INFORMATION: For further information, please visit the NEFSC website at https://www.fisheries.noaa.gov/new-england-mid-atlantic/population-assessments/fishery-stock-assessments-new-england-and-mid-atlantic. For additional information about management track assessment peer review, please visit the NEFSC web page at https://www.fisheries.noaa.gov/new-england-mid-atlantic/population-assessments/management-track-stock-assessments.

Daily Meeting Agenda—Research Track Peer Review Meeting

The agenda is subject to change; all times are approximate and may be changed at the discretion of the Peer Review Chair.

Time | Stock | Subject | Presenter
Monday, September 15, 2025
9 a.m |  | Welcome/Logistics Conduct of Meeting | Brian Hooper; Kristan Blackhart; Edward Camp, Chair.
9:15 a.m | White Hake | Terms of Reference (TOR) Review & Panel Questions | Charles Adams; Panel.
11:15 a.m |  | Break
11:30 a.m | White Hake | Public Comment | Panel.
11:45 a.m | White Hake | Panel Deliberations | Panel.
12:30 p.m | White Hake | Panel Conclusions/Recommendations and Final Stock Wrap Up | Panel.
1 p.m |  | Lunch
2 p.m |  | Overview of the Woods Hole Assessment Model (WHAM) | Jonathan Deroba.
3 p.m | Georges Bank Yellowtail Flounder | TOR Review & Panel Questions | Alex Hansell; Panel.
4 p.m | Georges Bank Yellowtail Flounder | Public Comment | Public.
4:15 p.m |  | Break
4:30 p.m | Georges Bank Yellowtail Flounder | Panel Deliberations | Panel.
4:45 p.m | Georges Bank Yellowtail Flounder | Panel Conclusions/Recommendations and Final Stock Wrap Up | Panel.
5 p.m |  | Adjourn
Tuesday, September 16, 2025
9 a.m |  | Welcome/Logistics | Brian Hooper; Edward Camp, Chair.
9:05 a.m | Acadian Redfish | TOR Review & Panel Questions | Brian Linton; Panel.
10:45 a.m |  | Break
11 a.m | Acadian Redfish | TOR Review & Panel Questions, continued | Brian Linton; Panel.
12:30 p.m |  | Lunch
1:30 p.m | Acadian Redfish | TOR Review & Panel Questions, continued | Brian Linton; Panel.
2:45 p.m | Acadian Redfish | Public Comment | Public.
3 p.m |  | Break
3:15 p.m | Acadian Redfish | Panel Deliberations | Panel.
4:15 p.m | Acadian Redfish | Panel Conclusions/Recommendations and Final Stock Wrap Up | Panel.
5 p.m |  | Adjourn
Wednesday, September 17, 2025
9 a.m |  | Welcome/Logistics | Brian Hooper; Edward Camp, Chair.
9:05 a.m | Georges Bank Winter Flounder | TOR Review & Panel Questions | Alex Hansell; Panel.
10:45 a.m |  | Break
11 a.m | Georges Bank Winter Flounder | TOR Review & Panel Questions, continued | Alex Hansell; Panel.
12:30 p.m |  | Lunch
1:30 p.m | Georges Bank Winter Flounder | Public Comment | Public.
1:45 p.m | Georges Bank Winter Flounder | Panel Deliberations | Panel.
2:45 p.m | Georges Bank Winter Flounder | Panel Conclusions/Recommendations and Final Stock Wrap Up | Panel.
3 p.m |  | Break
3:15 p.m |  | Closed panel writing session
5 p.m |  | Adjourn
Thursday, September 18, 2025
9 a.m |  | Welcome/Logistics | Brian Hooper; Edward Camp, Chair.
9:05 a.m | Southern New England-Mid Atlantic Yellowtail Flounder | TOR Review & Panel Questions | Cameron Hodgdon; Panel.
9:30 a.m | Southern New England-Mid Atlantic Yellowtail Flounder | Public Comment | Public.
9:40 a.m | Southern New England-Mid Atlantic Yellowtail Flounder | Panel Deliberations | Panel.
9:55 a.m | Southern New England-Mid Atlantic Yellowtail Flounder | Panel Conclusions/Recommendations and Final Stock Wrap Up | Panel.
10:05 p.m | Cape Cod/Gulf of Maine Yellowtail Flounder | TOR Review & Panel Questions, continued | Larry Alade; Panel.
10:30 a.m | Cape Cod/Gulf of Maine Yellowtail Flounder | Public Comment | Public.
10:40 a.m | Cape Cod/Gulf of Maine Yellowtail Flounder | Panel Deliberations | Panel.
10:55 p.m | Cape Cod/Gulf of Maine Yellowtail Flounder | Panel Conclusions/Recommendations and Final Stock Wrap Up | Panel.
11:05 p.m | All stocks | Final Meeting Wrap Up, if needed | Panel.
12 p.m |  | Lunch
1 p.m |  | Closed panel writing session | Panel.
3 p.m |  | Adjourn

Special Accommodations This meeting is physically accessible to people with disabilities. Special requests should be directed to Brian Hooper, via the email provided in the ADDRESSES section.

Authority: 16 U.S.C. 1801 et seq.

Dated: September 12, 2025.
Kelly Denit,
Director, Office of Sustainable Fisheries, National Marine Fisheries Service.

[FR Doc. 2025-17900 Filed 9-15-25; 8:45 am]

BILLING CODE 3510-22-P